DEPARTMENT OF TRANSPORTATION

Federal Highway Administration

Environmental Impact Statement: Interstate 55/U.S. 64 (Crump Boulevard), Shelby County, TN

AGENCY: Federal Highway Administration, DOT.

ACTION: Notice of intent.

SUMMARY: The Federal Highway Administration (FHWA) is issuing this notice to advise the public of its intent to prepare an Environmental Impact Statement in cooperation with the Tennessee Department of Transportation (TDOT) for potential interchange improvements to the Interstate 55/U.S. 64 interchange at Crump Boulevard in the western portion of Memphis, from McLemore Avenue to just west of Metal Museum Drive in Shelby County. This project is intended to improve regional and national transportation needs.

FOR FURTHER INFORMATION CONTACT: Mr. Scott McGuire, Field Operations Team Leader, Federal Highway Administration—Tennessee Division Office, 640 Grassmere Park Road, Suite 112, Nashville, TN 37211.

SUPPLEMENTARY INFORMATION: The Interstate 55 (I-55) at Crump Boulevard (U.S. 64) Interchange currently handles most north and southbound I-55 traffic through Memphis, Tennessee. Interstate 55 is one of the major transit corridors of the United States, linking New Orleans, Memphis, St. Louis, and Chicago. It accommodates large amounts of personal automobile and commercial truck traffic. The current configuration of the I-55 at Crump Boulevard Interchange in Memphis, Tennessee is antiquated and creates multiple safety and efficiency problems.

With this notice of intent, FHWA and TDOT are initiating the National Environmental Policy Act (NEPA) process for the Interstate 55/U.S. 64 (Crump Boulevard) project to study potential transportation improvements to the interchange. As part of the NEPA process, the purpose and need will be modified as necessary to account for any changes in regional or national needs or goals.

The alternatives development and screening process for the I-55/U.S. 64 project will be used as a starting point for the NEPA process. Recognizing that NEPA requires the consideration of a reasonable range of alternatives that will address the purpose and need, the Environmental Impact Statement will include a range of alternatives for detailed study consisting of a no-build alternative, three build alternatives, as well as alternatives consisting of transportation system management strategies, mass transit, improvements to existing roadways, and/or new alignment facilities. These alternatives will be developed, screened, and carried forward for detailed analysis in the Draft Environmental Impact Statement based on their ability to address the purpose and need that will be developed while avoiding known and sensitive resources. Letters describing the proposed NEPA study and soliciting input will be sent to the appropriate Federal, State, and local agencies who have expressed or are known to have an interest or legal role in this proposal. It is anticipated that one formal agency scoping meeting will be held as part of the NEPA process, in the vicinity of the project, to facilitate local, State, and Federal agency involvement and input into the project in an effort to identify all of the issues that need to be addressed in developing the Environmental Impact Statement. Private organizations, citizens, and interest groups will also have an opportunity to provide input into the development of the Environmental Impact Statement and identify issues that should be addressed. A Public Involvement Plan will be developed to involve the public in the project development process. This plan will utilize the following outreach efforts to provide information and solicit input: newsletters, the Internet, e-mail, informal meetings, public information meetings, public hearings and other efforts as necessary and appropriate. Notices of public meetings or public hearings will be given through various forums providing the time and place of the meeting along with other relevant information. The Draft Environmental Impact Statement will be available for public and agency review and comment prior to the public hearings.

To ensure that the full range of issues related to this proposed action are identified and taken into account, comments and suggestions are invited from all interested parties. Comments and questions concerning the proposed action and Draft Environmental Impact Statement should be directed to FHWA at the address provided above.

(Catalog of Federal Domestic Assistance Program Number 20.205, Highway Planning and Construction. The regulations implementing Executive Order 12372 regarding intergovernmental consultation on Federal programs and activities apply to this proposed action)

Authority: 23 U.S.C. 315; 49 CFR 1.48.

Issued on: September 17, 2004.
Scott A. McGuire,
Field Operations Team Leader, Federal Highway Administration, Nashville, Tennessee.

[FR Doc. 04-21925 Filed 9-29-04; 8:45 am]

BILLING CODE 4910-22-M